SMALL BUSINESS ADMINISTRATION

[Disaster Declaration # 11264 and # 11265]

Iowa Disaster Number IA-00015.

AGENCY: U.S. Small Business Administration.

ACTION: Amendment 2.

SUMMARY: This is an amendment of the Presidential declaration of a major disaster for the State of Iowa (FEMA-1763-DR), dated 05/27/2008.

Incident: Severe Storms, Tornadoes, and Flooding.

Incident Period: 05/25/2008 and continuing.

Effective Date: 06/15/2008.

Physical Loan Application Deadline Date: 07/28/2008.

EIDL Loan Application Deadline Date: 02/27/2009.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Iowa, dated 05/27/2008 is hereby amended to include the following areas as adversely affected by the disaster:

Primary Counties: (Physical Damage and Economic Injury Loans):

Adams, Benton, Bremer, Cedar, Cerro Gordo, Delaware, Fayette, Floyd, Hardin, Johnson, Jones, Linn, Louisa, Marion, Muscatine, Page, Polk, Story, Tama, Union, and Winneshiek.

Contiguous Counties: (Economic Injury Loans Only):

Iowa: Adair, Allamakee, Boone, Cass, Clarke, Clinton, Dallas, Decatur, Des Moines, Dubuque, Fremont, Hamilton, Hancock, Henry, Howard, Iowa, Jackson, Jasper, Lucas, Madison, Mahaska, Marshall, Mills, Mitchell, Monroe, Montgomery, Poweshiek, Ringgold, Scott, Taylor, Warren, Washington, Winnebago, Worth, and Wright.

Illinois: Mercer and Rock Island.

Minnesota: Fillmore and Houston.

Missouri: Atchison and Nodaway.

All other information in the original declaration remains unchanged.

(Catalog of Federal Domestic Assistance Numbers 59002 and 59008)

Herbert L. Mitchell,
Associate Administrator for Disaster Assistance.

[FR Doc. E8-13970 Filed 6-19-08; 8:45 am]

BILLING CODE 8025-01-P